POSTAL SERVICE

Sunshine Act Meetings

TIME AND DATE: Thursday, September 19, 2024, at 1:00 p.m. EST.

PLACE: Washington, DC, at U.S. Postal Service Headquarters, 475 L'Enfant Plaza SW, in the Benjamin Franklin Room.

STATUS: Closed.

MATTERS TO BE CONSIDERED:

Meeting of the Board of Governors

Thursday, September 19, 2024, at 1:00 p.m. EST

1. Strategic and Financial Matters.

2. Administrative Items.

GENERAL COUNSEL CERTIFICATION: The General Counsel of the United States Postal Service has certified that the meeting may be closed under the Government in the Sunshine Act.

CONTACT PERSON FOR MORE INFORMATION: Michael J. Elston, Secretary of the Board of Governors, U.S. Postal Service, 475 L'Enfant Plaza SW, Washington, DC 20260-1000. Telephone: (202) 268-4800.

Lucy C. Trout,
Deputy Secretary.

[FR Doc. 2024-20105 Filed 9-3-24; 4:15 pm]

BILLING CODE 7710-12-P